DEPARTMENT OF HOMELAND SECURITY

Office of the Secretary

[Docket No. DHS-2009-0020]

Public Workshop: Government 2.0: Privacy and Best Practices

AGENCY: Office of the Secretary, DHS.

ACTION: Notice announcing public workshop.

SUMMARY: The Department of Homeland Security Privacy Office will host a public workshop, Government 2.0: Privacy and Best Practices.

DATES: The two-day workshop will be held on June 22, 2009, from 8:30 a.m. to 4:30 p.m., and on June 23, 2009, from 8:30 a.m. to 12:30 p.m. Written comments should be received on or before June 1, 2009.

ADDRESSES: The workshop will be held in the Atrium Ballroom, Washington Court Hotel, 525 New Jersey Avenue, NW., Washington, DC 20001. Submit comments to the Federal eRulemaking Portal (http://www.regulations.gov) by following the instructions provided there, or send your comments by e-mail to privacyworkshop@dhs.gov, by fax to (703) 483-2999, or by U.S. mail to Martha K. Landesberg, Associate Director for Privacy Policy and Education, Privacy Office, Department of Homeland Security, Washington, DC 20528. All comments must include the words “Government 2.0 Workshop” and the Docket Number (DHS-2009-0020). To register for the workshop, please send an e-mail to privacyworkshop@dhs.gov with “Government 2.0 Workshop Registration” in the subject line, and your name and organizational affiliation, if any, in the body of the e-mail. Alternatively, you may call 703-235-0780 to register and provide this information.

FOR FURTHER INFORMATION CONTACT: Martha K. Landesberg or Toby Milgrom Levin, DHS Privacy Office, Department of Homeland Security, Washington, DC 20528; by telephone 703-235-0780; by facsimile 703-235-0442; or by e-mail to privacyworkshop@dhs.gov.

SUPPLEMENTARY INFORMATION: The Department of Homeland Security (DHS) Privacy Office is holding a public workshop to bring together leading academic, private-sector, and public-sector experts to discuss the privacy issues posed by Government use of social media. The purpose of the workshop is to help Federal agencies to engage the public through social media in a privacy-protective manner and to explore best practices that agencies can use to implement President Obama's January 21, 2009, Transparency and Open Government Memorandum. The workshop will consist of a series of presentations and panel discussions that include the broad range of stakeholder perspectives. Panelists will discuss such issues as: The benefits of social media to expand transparency and participation in Government; the privacy and related legal issues raised by Government use of social media; and how Government can best harness these new technologies while protecting privacy.

Workshop attendees will have an opportunity to ask questions after each panel.

The workshop is open to the public, and no fee is required for attendance. An agenda and logistical information will be posted on the http://www.dhs.gov/privacy Web page for this workshop shortly before the event. A written transcript will be posted on the Web page following the event.

Topics for Comment: To develop a comprehensive record regarding Government use of social media, the DHS Privacy Office also invites interested parties to submit written comments as described below. Comments should be received on or before June 1, 2009, and should be as specific as possible. The Privacy Office welcomes comments on any issue of fact, law, or policy related to the privacy issues posed by Government use of social media. The Privacy Office is particularly interested in receiving comments on the following topics:

1. How is Government currently using social media?

2. What are the benefits, to the public and to Government, of Government's use of social media?

3. What are the risks, to the public and to Government, of Government's use of social media?

4. What operational issues are raised by Government use of social media?

5. What privacy issues are raised by Government use of social media? What are the privacy impacts of Government use of social media? Are there privacy issues that are unique to Government use of social media?

6. What legal issues are raised by Government use of social media? Are there legal issues that are unique to Government use of social media?

7. What security issues are raised by Government use of social media? Are there security issues that are unique to Government use of social media?

8. What should be the elements of privacy best practices for Government use of social media? The Privacy Office requests that, where possible, comments include references to literature, technical standards and/or other resources that would support implementation of the best practices identified.

Written comments must include the words “Government 2.0 Workshop” and the Docket Number (DHS-2009-0020), and may be submitted by any one of the following methods:

• Federal eRulemaking Portal: http://www.regulations.gov. Follow the instructions for submitting comments.

• E-mail: privacyworkshop@dhs.gov. Include “Government 2.0 Workshop Comment” and the Docket Number (DHS-2009-0020) in the subject line of the message.

• Fax: (703) 483-2999.

• Mail: Martha K. Landesberg, Associate Director for Privacy Policy and Education, Privacy Office, Department of Homeland Security, Washington, DC 20528.

All written comments received will be posted without alteration on the http://www.dhs.gov/privacy Web page for this workshop, including any personal contact information provided.

Registration: In order to assist us in planning for the workshop, we ask that attendees register in advance. To register, please send an e-mail to privacyworkshop@dhs.gov with “Government 2.0 Workshop Registration” in the subject line, and your name and organizational affiliation, if any, in the body of the e-mail. Alternatively, you may call 703-235-0780 to register and to provide the DHS Privacy Office with your name and organizational affiliation, if any. The Privacy Office will use this information only for purposes of planning this workshop and to contact you in the event of any logistical changes. An agenda and logistical information will be posted on the http://www.dhs.gov/privacy Web page for this workshop shortly before the event. A written transcript will be posted on the Web page following the event.

Special Assistance: Persons with disabilities who require special assistance should indicate this in their registration request and are encouraged to identify anticipated special needs as early as possible.

Dated: April 13, 2009.
Mary Ellen Callahan,
Chief Privacy Officer, Department of Homeland Security.

[FR Doc. E9-8868 Filed 4-16-09; 8:45 am]

BILLING CODE 9110-9L-P